DEPARTMENT OF TRANSPORTATION

Federal Transit Administration

FY16 Discretionary Funding Opportunity: Low or No Emission Component Assessment Program (LoNo-CAP)

AGENCY: Federal Transit Administration (FTA), DOT.

ACTION: Notice of Funding Opportunity (NOFO) and Request for Proposals (RFP).

SUMMARY: The Federal Transit Administration (FTA) is requesting proposals from qualified institutions of higher education to conduct testing, evaluation, and analysis of low or no emission components intended for use in low or no emission transit buses used to provide public transportation. FTA is authorized to pay 50 percent of the established assessment fees, up to $3.0 million annually. A total of $15.0 million is authorized at $3.0 million per year starting in FY 2016 through FY2020 to carry out the Low and No Emission Component Assessment Program (LoNo-CAP). Funds awarded under the LoNo-CAP program will be used to reimburse the cost of assessing eligible components.

DATES: Complete proposals must be submitted electronically through the GRANTS.GOV “APPLY” function by 11:59 EDT on November 28, 2016. Prospective applicants should initiate the process by registering on the GRANTS.GOV Web site promptly to ensure completion of the application process before the submission deadline.

This announcement is also available at FTA's Web site at: https://www.transit.dot.gov/funding/grants/notices and in the “FIND” module of GRANTS.GOV. The funding opportunity ID is FTA-2016-009-TRI-LoNoCAP and the Catalog of Federal Domestic Assistance (CFDA) number for Section 5312 is 20.514. Mail and fax submissions will not be accepted.

FOR FURTHER INFORMATION CONTACT: Marcel Belanger, Bus Testing Program Manager, FTA Office of Research, Demonstration, and Innovation at: (202) 366-0725 or LoNo-CAP@dot.gov. A TDD is available for individuals who are deaf or hard of hearing at 1-800-877-8339.

SUPPLEMENTARY INFORMATION:

Table of Contents

A. Program Description

B. Federal Award Information

C. Eligibility Information

D. Application and Submission Information

E. Application Review

F. Federal Award Administration

G. Federal Awarding Agency Contacts

H. Other Information

A. Program Description

FTA recognizes that a significant transformation is occurring in the transit bus industry, with the increasing availability and deployment of low and zero emission transit buses for revenue operations. The adoption of these technologically advanced transit buses will allow the country's transportation systems to move toward a cleaner and more energy-efficient future, as described in the U.S. Department of Transportation's recent report, Beyond Traffic 2045. FTA remains committed to the deployment of low or no emission transit buses to support the transition of the nation's transit fleet to the lowest polluting and most energy-efficient transit bus technologies, thereby reducing local air pollution and direct carbon emissions by way of the Moving Ahead for Progress in the 21st Century Act (MAP-21), Public Law 112-141, July 6, 2012, Section 5312 Low or No Emission Vehicle Deployment Program (LoNo) and the Fixing America's Surface Transportation (FAST) Act, Public Law 114-94, December 4, 2015, 5339(c) Low or No Emission Grant Program (Low-No). Since 2014, FTA has provided over $100 million in competitive funds to support the introduction of low and no emission transit buses into transit system fleets. LoNo-CAP directly supports the mission of FTA's ongoing LoNo programs.

FTA's goals for LoNo-CAP, in general, are to:

• Provide unbiased assessments of low or no emission vehicle components, documenting (at a minimum) the maintainability, reliability, performance, structural integrity, efficiency, and noise of the tested components

• Increase the quality and lower the overall cost of low or no emission vehicle components

• Expand the supply chain for low or no emission vehicle components

• Increase the deployment of the cleanest and most energy-efficient transit buses into transit agency fleets

• Advance the development of materials, technologies, and safer designs

• Support the development of applicable standards, protocols, and best practices

• Reduce the risk to Transit Vehicle Manufacturers (TVM) of using low or no emission vehicle components from unfamiliar manufacturers

• Complement, not replace, the testing of complete transit buses performed under the FTA Section 5318 Bus Testing Program

• Complement, not replace, existing Federal government testing (e.g., Environmental Protection Agency testing of engine emissions, National Highway Traffic Safety Administration testing of crash safety, etc.)

• Continue FTA's legacy of supporting the transit industry in the introduction of advanced technologies to reduce the energy consumption and emissions of transit buses.

Section 5312(h) of Title 49, United States Code, as amended by the FAST Act, authorizes LoNo-CAP. FTA is authorized to competitively select at least one testing facility at an “institution of higher education” as defined in section 102 of the Higher Education Act of 1965 (20 U.S.C. 1002) to conduct testing, evaluation, analysis, and reporting of testing results of low or no emission components intended for use in low or no emission transit vehicles. LoNo-CAP will focus on transit buses and provide unbiased information on LoNo components used in those buses. LoNo-CAP differs from the Section 5318 Bus Testing Program in that LoNo-CAP testing is voluntary, it will only test components, and it will not assign passing or failing scores. FTA may select one institution that is able to test all components, or it may select a small number of individual institutions, or a consortium of complementary institutions, each specializing in testing different LoNo components. The FAST Act requires that the institution(s) selected under LoNo-CAP must be separate and distinct from the facility operated and maintained under Section 5318. The low or no emission component testing performed under LoNo-CAP complements the Section 5318 Bus Testing Program, under which FTA will continue to test complete buses as a condition of eligibility for FTA grant funding.

For the purpose of LoNo-CAP, the term “low or no emission component” means an item that is separately installed in and removable from a low or no emission transit bus. Furthermore, the components to be tested under LoNo-CAP should enable or significantly support low or zero emissions transit bus operation. FTA is limiting the LoNo-CAP to assessing components for transit buses due to limited program resources. Compared to transit buses, zero-emission components for transit rail vehicles are technologically mature. Examples of LoNo components for transit buses include, but are not limited, to: Batteries, fuel cells, electric motors and generators, power electronics, battery management systems, air compressors, HVAC systems, gaseous fuel storage systems, and DC/DC converters.

For the purpose of LoNo-CAP, the term “transit bus” means a rubber-tired vehicle used for the provision of public transportation service by or for an FTA recipient. Components for trolley buses powered by overhead wires will be eligible for testing under LoNo-CAP.

All component assessments conducted under the program will be considered public information and the results of LoNo-CAP assessments will be published online and summarized in an annual report to Congress. Private component assessments may be performed by mutual agreement of the parties, but will not receive a subsidy from FTA.

The Federal Government's participation in the cost of component assessments is limited to 50 percent of the established individual component assessment fee, and is further limited to a total of $3 million per year. Any party interested in having an assessment performed can submit a LoNo component to an appropriate FTA-funded facility selected under this announcement and that party will pay the remaining 50 percent of the assessment fee.

A selected institution may use the collected fees to operate and maintain the program to include reasonable equipment maintenance and upkeep of the physical plant. LoNo-CAP funds are not meant to build new infrastructure or enhance existing facilities to add a capability that did not exist at the time of the award, however minor capital equipment purchases may be needed to support the ongoing operations and should be accounted for in the development of the testing fees, subject to FTA approval prior to award.

B. Federal Award Information

A total of $15.0 million has been authorized at $3.0 million per year starting in FY 2016 through FY 2020 to carry out LoNo-CAP. Program funds are not eligible to directly cover costs of capital improvements or equipment that a facility does not have at the time of selection. FTA will enter into a grant, contract or cooperative agreement with one or more institutions of higher education for component testing. FTA will fund $3 million per year through FY 2020, dependent on annual performance reviews.

Estimated fiscal funding by year is:

FY 16: $3 million

FY 17: $3 million

FY 18: $3 million

FY 19: $3 million

FY 20: $3 million

————————

Total $15 million

C. Eligibility Information

1. Eligible Applicants

As specified in Section 5312(h), FTA will consider proposals only from “institutions of higher education” as defined in section 102 of the Higher Education Act of 1965 (20 U.S.C. 1002). Eligible institution(s) of higher education must have capacity to carry out transportation-related advanced component testing and evaluation, with laboratories capable of testing and evaluation, and direct access to or a partnership with a testing facility capable of emulating real-world circumstances in order to test low or no emission components. The facility operated and maintained under the Section 5318 FTA Bus Testing Program is specifically excluded from eligibility for LoNo-CAP.

2. Cost Sharing

Traditional cost sharing or matching is not required for awards resulting from this funding opportunity. Pursuant to Section 5312(h), FTA will pay 50 percent of the established testing fee of low or no emission transit bus components, up to a maximum of $3 million per year for each of FY2016 through FY2020. The remainder of the testing cost will be recovered from fees collected from the entities having the tests performed.

3. Eligible Projects

Under the LoNo-CAP, eligible projects are limited to assessments of low or no (LoNo) emission components to be used on low or no transit buses used to provide public transportation. FTA will fund up to 50 percent of the established fees for assessing maintainability, reliability, performance, structural integrity, efficiency and noise. FTA will fund these eligible projects through a grant, contract, or cooperative agreement awarded to the facility(s) selected to perform these assessments. Qualified applicants' proposals must demonstrate current capacity to perform and report on assessments of LoNo transit bus components. As a result, applications must contain the following information in sufficient detail to be eligible for funding consideration:

• Evidence that demonstrates the experience and current capacity to carry out transportation-related advanced LoNo component assessments

• Evidence that the applicant has a current laboratory or laboratories capable of testing and evaluation that contain appropriate measuring instrumentation, data collection and storage devices, and other equipment, as deemed appropriate by the applicant

• Evidence that applicant has direct access to or a partnership with a testing facility capable of emulating real-world circumstances such as a vehicle test track in order to test low or no emission components

D. Application and Submission Information

1. Address and Form of Application Submission

Project proposals must be submitted electronically through GRANTS.GOV (www.grants.gov) by November 28, 2016. Mail and fax submissions will not be accepted. A complete proposal submission will consist of at least two files: (1) The SF 424 Mandatory form (downloaded from GRANTS.GOV) and (2) the Applicant and Proposal Profile for the “Low or No Emission Component Assessment Program” (supplemental form) found on the FTA Web site at https://www.transit.dot.gov/research-innovation/lonocap. The Supplemental Form provides guidance and a consistent format for proposers to respond to the criteria outlined in this NOFO.

2. Content and Form of Application Submission

(i) Proposal Submission

A complete proposal submission consists of a minimum of two forms: The SF424 Mandatory Form and the Supplemental Form. The Supplemental Form must be placed in the attachments section of the SF424 Mandatory Form. Proposers must use the Supplemental Form designated for LoNo-CAP and attach it to the submission in GRANTS.GOV to successfully complete the application process.

A proposal submission may contain additional supporting documentation as attachments. If an applicant elects to attach an additional proposal narrative, it must not exceed 10 numbered pages. Submissions must be presentable and use standard fonts, font sizing, and margins so reviewers can easily read the information.

Within 48 hours after submitting an electronic application, the applicant should receive three email messages from GRANTS.GOV: (1) Confirmation of successful transmission to GRANTS.GOV, (2) confirmation of successful validation by GRANTS.GOV, and (3) confirmation of successful validation by FTA. If confirmations of successful validation are not received or a notice of failed validation or incomplete materials is received, the applicant must address the reason for the failed validation, as described in the email notice, and resubmit before the submission deadline. If making a resubmission for any reason, include all original attachments regardless of which attachments were updated and check the box on the supplemental form indicating this is a resubmission.

The FTA urges proposers to submit applications at least 72 hours prior to the due date to allow time to receive the validation messages and to correct any problems that may have caused a rejection notification. The FTA will not accept submissions after the stated deadline. GRANTS.GOV scheduled maintenance and outage times are announced on the GRANTS.GOV Web site. Deadlines will not be extended due to scheduled Web site maintenance.

Proposers are encouraged to begin the process of registration on the GRANTS.GOV site well in advance of the submission deadline. Registration is a multi-step process, which may take several weeks to complete before an application can be submitted. Registered proposers may still be required to take steps to keep their registration up to date before submissions can be made successfully: (1) Registration in the System for Award Management (SAM) is renewed annually; and, (2) persons making submissions on behalf of the Authorized Organization Representative (AOR) must be authorized in GRANTS.GOV by the AOR to make submissions. Instructions on the GRANTS.GOV registration process are provided in the Appendix.

Information such as proposer name, Federal amount requested, etc. may be requested in varying degrees of detail on both the SF424 form and Supplemental Form. Proposers must fill in all fields unless stated otherwise on the forms. The Supplemental Form template supports pasting copied text with limited formatting from other documents; applicants should verify that pasted text is fully captured on the Supplemental Form and has not been truncated by the character limits built into the form. Proposers should use both the “Check Package for Errors” and the “Validate Form” validation buttons on both forms to check all required fields on the forms.

(ii) Application Content

The SF424 Mandatory Form and the Supplemental Form will prompt applicants for the required information, including:

a. Applicant name

b. Dun and Bradstreet (D&B) Data Universal Numbering System (DUNS) number if available (Note: If selected, applicant will be required to provide DUNS number prior to award)

c. Key contact information (including contact name, address, email address, and phone)

d. Congressional district(s) where the component assessments will take place

e. A list of team organizational members, by organization name and address

f. Documentation of the commitment of each organizational member of the team (e.g., memorandum of understanding, letter of commitment, or other documentation)

g. A description of the technical, legal, and financial capacity of the applicant and organizational team member to carry out the proposed LoNo-CAP component assessments and reporting

h. A description of the component tests proposed to be performed and how they support the program purpose

i. A description of any related facilities and projects including those funded under other sources

j. A description of LoNo-CAP support facilities and infrastructure in existence, being procured through other programs, and/or being proposed using non-FTA funds to support this project

k. A detailed program management plan

l. A schedule outlining steps and milestones leading to the start of testing and reporting (overall, or for specific components, if different)

m. A schedule of fees for the tests the applicant institution proposes to perform

n. A detailed description of the approach for using industry standards, certification, and accreditation processes for assessing LoNo components

o. Evidence that establishes the applicant's capacity and capability to take on a project of this magnitude, including executive commitment, workforce capacity, and description of facilities and associated infrastructure readiness

p. A description of the content, format, and dissemination method(s) for the public component evaluation reports. FTA desires that the component testing reports be published to a user-friendly Section 508-compliant online searchable database

q. Details on types of data that will be generated and how the project team will provide access for FTA and its designee to this project-related data for purposes of evaluation and performance management

3. Unique Entity Identifier and System for Award Management (SAM)

Registration in Brief

Registration can take as little as 3-5 business days, but since there could be unexpected steps or delays (for example, if you need to obtain an Employer Identification Number (EIN)), FTA recommends allowing ample time, up to several weeks, for completion of all steps.

STEP 1: Obtain DUNS Number

Same day. If requested by phone (1-866-705-5711) DUNS is provided immediately. If your organization does not have one, you will need to go to the Dun & Bradstreet Web site at http://fedgov.dnb.com/webform to obtain the number. *Information for Foreign Registrants. *Webform requests take 1-2 business days.

STEP 2: Register With SAM

Three to five business days or up to two weeks. If you already have an EIN, your SAM registration will take 3-5 business days to process. If you are applying for an EIN please allow up to two weeks. Ensure that your organization is registered with the System for Award Management (SAM). If your organization is not, an authorizing official of your organization must register.

STEP 3: Username & Password

Same day. Complete your AOR (Authorized Organization Representative) profile on Grants.gov and create your username and password. You will need to use your organization's DUNS Number to complete this step. https://apply07.grants.gov/apply/OrcRegister.

STEP 4: AOR Authorization

*Same day. The E-Business Point of Contact (E-Biz POC) at your organization must login to Grants.gov to confirm you as an Authorized Organization Representative (AOR). Please note that there can be more than one AOR for your organization. In some cases the E-Biz POC is also the AOR for an organization. *Time depends on responsiveness of your E-Biz POC.

STEP 5: Track AOR Status

At any time, you can track your AOR status by logging in with your username and password. Login as an Applicant (enter your username & password you obtained in Step 3) using the following link: applicant_profile.jsp.

4. Submission Dates and Times

Project proposals must be submitted electronically through GRANTS.GOV by 11:59 p.m. EDT on November 28, 2016. Mail and fax submissions will NOT be accepted.

5. Funding Restrictions

Funds under this opportunity cannot be used to reimburse projects for otherwise eligible expenses incurred prior to FTA award of a Grant Agreement, Contract, or Cooperative Agreement unless FTA has issued a “Letter of No Prejudice” for the project before the expenses are incurred.

E. Application Review

1. Review and Selection Process

A technical evaluation panel (TEP) will evaluate all eligible applications based on the applications' responses to information requested in this notice, plus supporting documentation. The TEP will collectively assign a rating to each eligible application using the following ratings: Recommended or Not Recommended.

The TEP will evaluate all eligible proposals received and may seek clarification from any proposer about any ambiguous statement in the proposal. FTA may request additional documentation or information to be considered during the evaluation process, and may conduct pre-selection site visits. After a thorough evaluation of all eligible proposals, the TEP will recommend the selected institution(s) to the FTA Administrator or designee. The FTA Administrator or designee will determine the institution(s) that will receive award(s) under LoNo-CAP through FY 2020, dependent on annual reviews, and in the event that more than one institution is selected, the amount of funding allocated to each.

2. Evaluation Criteria

Applications will be evaluated based on the quality and extent to which the following evaluation criteria are addressed:

Program Approach

• Description of and rationale for the types of tests and specific components to be tested; at a minimum, tests must assess maintainability, reliability, performance, structural integrity, efficiency, and noise

• Which tests will not be offered and why

• How the tests included in the proposed program support the LoNo-CAP Program goals, in particular how they support deployment of the cleanest and most energy-efficient buses

• Description of testing procedures

• Projected schedule for performing tests in the first year, and subsequent years; highlighting any plans for phasing-in new tests

• Plan for coordinating with FTA, Altoona, bus OEMs, suppliers, transit industry, and other testing facilities and programs including any other LoNo-CAP testing facility(s)

• Proposed outreach and industry coordination efforts to encourage use of the facility and testing capabilities

• Descriptions of any innovative aspects of the proposed approach, their benefits, and risks

Organizational Capacity

• Qualifications and experience of key staff

• Commitment of key staff to testing center

• Description of existing and planned facilities and equipment. Applicants must demonstrate that they have direct access to or a partnership with a testing facility capable of emulating real-world circumstances in order to test low or no emission components installed on the intended transit bus

• Skills and availability of supporting staff

• Workforce development plan

• Executive commitment of institution to supporting the testing activity/center

• Technical, legal, and financial capacity

• Sufficiency of commitment of organizational team members (attach memorandum of understanding, letters of commitment, or other documentation)

Program and Risk Management Plan

• Proposed schedule of test fees, and process for reviewing and updating fees throughout the program to account for new equipment needs and changing costs

• Projections for anticipated types and quantities of tests per year, and if applicable, maximum and minimum number of tests that can be performed per year

• Rationale for establishing the fees to account for maintaining and operating the facility

• Additional funding that may be available to support the program

Data Reporting and Dissemination

• Description of component test reports content and format

• Description of method(s) of component test reports dissemination

• Method of preparing Annual Report to Congress

• Description of searchable 508-compatible Database (if proposed)

Commitment to Accreditation, Codes, and Standards

• Description of accreditations now held, being pursued, or planned

• Description of use of codes and standards for test standardization

• Description of use of codes and standards to promote safety

• Commitment to participation in developing future codes and standards

F. Federal Award Administration

1. Federal Award Notice

Subsequent to an announcement by the FTA Administrator or designee of the final selection(s) posted on the FTA Web site, FTA will publish a list of the selected facility or facilities.

All information submitted as part of or in support of LoNo-CAP shall use publicly available data or data that can be made public and methodologies that are accepted by industry practice and standards, to the extent possible. If the submission includes information the applicant considers to be trade secret or confidential commercial or financial information, the applicant should do the following: (1) Note on the front cover that the submission “Contains Confidential Business Information (CBI)”; (2) mark each affected page “CBI”; and (3) highlight or otherwise denote the CBI portions. FTA protects such information from disclosure to the extent allowed under applicable law. In the event that FTA receives a Freedom of Information Act (FOIA) request for the information, FTA will follow the procedures described in the U.S. DOT FOIA regulations at 49 CFR 7.17. Only information that is ultimately determined to be confidential under that procedure will be exempt from disclosure under FOIA. Should FTA receive an order from a court of competent jurisdiction ordering the release of the information, FTA will provide applicant timely notice of such order to allow the applicant the opportunity to challenge such an order. FTA will not challenge a court order on behalf of applicant.

2. Award Administration

The successful applicant(s) will receive an award through FTA's Transit Award Management System (TrAMS) as either a Cooperative Agreement, Grant Agreement, or Contract, at FTA's discretion. The FTA Office of Research, Demonstration and Innovation will manage project agreements. The selected institution(s) will submit itemized quarterly invoices for the tests performed during the previous quarter, and FTA will reimburse the institution(s) for 50 percent of the established testing fees for those tests performed and properly documented. FTA reserves the right to monitor and review awards quarterly to ensure awarded funds are commensurate with level of testing being conducted and amend awarded funds, as needed.

Applicants must sign and submit current Certifications and Assurances before FTA may award funding under a Cooperative Agreement, Grant Agreement, or Contract for a competitively selected project. If the applicant has already submitted the annual Certifications and Assurances for the fiscal year in which the award will be made in TrAMS, they do not need to be resubmitted.

FTA reserves the right to request an adjustment of the project scope and budget of any proposal selected for funding. Such adjustments shall not constitute a material alteration of any aspect of the proposal that influenced the proposal evaluation or decision to fund the project.

Further, FTA reserves the right to name any or all proposed organizational team members as a “Key Partner” and to make any award conditional upon the participation of the “Key Partner.” A “Key Partner” is essential to the project as approved by FTA and, is, therefore, eligible for a noncompetitive award by the project sponsor to provide the goods or services described in the proposal. Participation by members of the “Key Partner” on a selected project may not later be substituted without FTA's approval.

3. Administrative and National Policy Requirements

Except as otherwise provided in this NOFO, grants, contracts or cooperative agreements are subject to the requirements of 49 U.S.C. 5312 as described in the latest FTA Research Circular, currently 6100.1E, “Research, Technical Assistance and Training Program: Application Instructions and Program Management Guidelines.” In particular, the recipient(s) of a LoNo-CAP award must submit quarterly Federal Financial Reports and Milestone Progress Reports in TrAMS.

4. Reporting, Data and Information Exchange, and Data Requirements

In order to achieve a comprehensive understanding of the impacts and implications of LoNo-CAP, FTA, or its designated independent evaluator, will require direct access to project data. Projects should include a data capture component that allows for the reliable and consistent collection of information relevant to gauging the impact and outcomes of the component assessments.

At any time during the period of performance, the project team may be requested to coordinate data collection activities in order to provide interim information under the requirements of this award. A project team may be asked to provide the data directly to FTA or to a designated independent evaluator. This information, if requested, will be used to conduct program evaluations during the execution of the project and after it has been completed.

LoNo-CAP awardees may be asked to participate in and/or host transit industry-related information exchange meetings, conferences, webinars, or outreach events at their own expense to share information with the transit industry and stakeholders on the progress and results of component assessments and related impacts.

G. Federal Awarding Agency Contacts

For further information concerning this NOFO, please contact Research Office staff via email at LoNo-CAP@dot.gov, or directly call Marcel Belanger, Bus Testing Program Manager, at (202) 366-0725. A TDD is available for individuals who are deaf or hard of hearing at 1-800-877-8339. In addition, FTA will post answers to questions and requests for clarifications on FTA's Web site. To ensure applicants receive accurate information about eligibility or the program, the applicant is encouraged to contact FTA directly, rather than through intermediaries or third parties, with questions. FTA staff may also conduct briefings on the LoNo-CAP discretionary selection and award process upon request.

H. Other Information

The applicant assures that it will comply with all applicable Federal statutes, regulations, executive orders, FTA Circulars, and other Federal administrative requirements in carrying out any project supported by the FTA agreement. The applicant acknowledges that it is under a continuing obligation to comply with the terms and conditions of the agreement executed with FTA for its project. The applicant understands that Federal laws, regulations, policies, and administrative practices might be modified from time-to-time and may affect the implementation of the project. The applicant agrees that the most recent Federal requirements will apply to the project, unless FTA issues a written determination otherwise.

Carolyn Flowers,
Acting Administrator.

[FR Doc. 2016-23504 Filed 9-28-16; 8:45 am]

BILLING CODE P